DEPARTMENT OF THE INTERIOR

Fish and Wildlife Service

[FWS-R4-ES-2019-N139; FXES11140400000-190-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by November 6, 2019.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE98596B-1 | Sarah Veselka, Fairmont, WV | Dwarf wedgemussel (Alasmidonta heterodon), Purple cat's paw (Epioblasma obliquata obliquata), white cat's paw (Epioblasma obliquata perobliqua), cracking pearlymussel (Hemistena lata), ring pink (Obovaria retusa), James spinymussel (Pleurobema collina), orangefoot pimpleback (Plethobasus cooperianus), and rough pigtoe (Pleurobema plenum) | Alabama, Arkansas, Connecticut, Delaware, Illinois, Indiana, Iowa, Kansas, Kentucky, Louisiana, Massachusetts, Maryland, Michigan, Minnesota, Mississippi, Missouri, New York, North Carolina, New Hampshire, New Jersey, Ohio, Oklahoma, Pennsylvania, Tennessee, Vermont, Virginia, West Virginia, and Wisconsin | Presence/absence surveys | Capture, handle, identify, tag, and release | Amendment.
TE 50089D-0 | Eneilis Mulero Oliveras, Canovanas, PR | Puerto Rican boa (Epicrates inornatus), Virgin Islands tree boa (Epicrates monensis granti), and Mona boa (Epicrates monensis monensis) | Puerto Rico and U.S. Virgin Islands | Spatial analysis of Snake fungal disease | Capture, handle, swab, PIT-tag, scale-clip, and release | New.
TE064856-4 | Trent Farris, Gulf Shores, AL | Alabama beach mouse (Peromyscus polionotus ammobates), Perdido Key beach mouse (Peromyscus polionotus trissyllepsis), Choctawatchee beach mouse (Peromyscus polionotus allophrys), and St. Andrew beach mouse (Peromyscus polionotus peninsularis) | Alabama and Florida | Presence/absence surveys | Trap, mark, examine, and release | Renewal.
TE34882A-2 | Mark Bailey, Andalusia, AL | Red-cockaded woodpecker (Picoides borealis), black pine snake (Pituophis melanoleucus lodingi), eastern indigo snake (Drymarchon corais couperi), flattened musk turtle (Sternotherus depressus), gopher tortoise (Gopherus polyphemus), frosted flatwoods salamander (Ambystoma cingulatum), Red Hills salamander (Phaeognathus hubrichti), Black Warrior waterdog (Necturus alabamensis), and dusky gopher frog (Rana sevosa) | Alabama, Florida, Georgia, Mississippi, North Carolina, and South Carolina | Presence/absence surveys and population monitoring | Red-cockaded woodpecker (construct and monitor artificial roost cavities and restrictors); gopher tortoise (scope burrows, trap, handle, mark, collect blood); black pine snake (capture, handle, mark, PIT-tag, radio-tag, and release); all others (capture, handle, identify, and release) | Renewal and Amendment.
TE35313B-4 | Emma Willcox, University of Tennessee, Knoxville, TN | Gray bat (Myotis grisescens), northern long-eared bat (Myotis septentrionalis), and Indiana bat (Myotis sodalis) | Alabama, Arkansas, Georgia, Illinois, Indiana, Kansas, Kentucky, Louisiana, Mississippi, Missouri, North Carolina, Oklahoma, South Carolina, Tennessee, Virginia, and West Virginia | Research on ecology and behavior, habitat management, and response to white-nose syndrome | Enter hibernacula or maternity roost caves, capture with mist nets or harp nets, handle, identify, collect hair and blood samples, band, radio tag, PIT-tag, light-tag, swab, fungal lift-tape, wing-punch, and release | Renewal.
TE52113D-0 | Devin Bingham, Irmo, SC | Gray bat (Myotis grisescens), northern long-eared bat (Myotis septentrionalis), and Indiana bat (Myotis sodalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys | Capture with mist nets or harp nets, band, radio-tag, and release | New.
TE78650B-1 | Cassie Schmidt, Fayetteville, AR | American burying beetle (Nicrophorus americanus) | Arkansas, Kansas, Missouri, and Oklahoma | Presence/absence surveys | Live-trap and release | Renewal.
TE18986C-2 | North Carolina Zoological Park, Asheboro, NC | Virgin Islands tree boa (Epicrates monensis granti) | Puerto Rico | Captive propagation and reintroduction, maintenance of a satellite population in captivity, genetic analyses and disease screenings, and habitat use studies | Remove from the wild, handle, PIT-tag, collect blood and tissue samples, radio-tag, and salvage | Amendment.
TE834070-3 | Point Defiance Zoo, Tacoma, WA | Red wolf (Canis rufus) | Tacoma, WA | Irritable bowel syndrome study | Anesthetize, collect blood, and collect stomach and duodenum samples via endoscopy | Amendment.
TE011542-1 | Conservation Fisheries, Inc., Knoxville, TN | Roanoke logperch (Percina rex) | North Carolina and Tennessee | Captive propagation and reintroduction | Collect up to 24 brood stock each year for 3 years to produce progeny for reintroduction in the Dan River, North Carolina | Amendment.
TE016270-10 | U.S. Army, Fort Benning, GA | Red-cockaded woodpecker (Picoides borealis) | Alabama, Florida, Georgia, and Mississippi | Population management and monitoring | Capture, band, construct and monitor artificial nest cavities and restrictors, and translocate | Renewal.
TE53898D-0 | U.S. Department of Agriculture, Animal and Plant Health Inspection Service, San Juan, PR | Harrisia portoricensis (higo chumbo) and Leptocereus grantianus (no common name) | Cabo Rojo National Wildlife Refuge (NWR), Culebra Island NWR, Desecheo Island NWR, and Vieques Island NWR, Puerto Rico. | Germplasm conservation and collection of voucher specimens | Collect seeds, seedlings, flowers, and plant parts | New.

Authority

We publish this notice under section 10(c) of the Endangered Species Act of 1973, as amended (16 U.S.C. 1531 et seq.).

Franklin Arnold,
Deputy Assistant Regional Director, Ecological Services, Southeast Region.

[FR Doc. 2019-21783 Filed 10-4-19; 8:45 am]

BILLING CODE 4333-15-P